SMALL BUSINESS ADMINISTRATION

[Declaration of Disaster #3577]

State of Nebraska

As a result of the President's major disaster declaration on May 25, 2004, I find that Cass, Gage, Lancaster, and Saline Counties in the State of Nebraska constitute a disaster area due to damages caused by severe storms, tornadoes, and flooding occurring on May 20, 2004, and continuing. Applications for loans for physical damage as a result of this disaster may be filed until the close of business on July 26, 2004 and for economic injury until the close of business on February 25, 2005 at the address listed below or other locally announced locations: U.S. Small Business Administration, Disaster Area 3 Office, 14925 Kingsport Road, Fort Worth, TX 76155.

In addition, applications for economic injury loans from small businesses located in the following contiguous counties may be filed until the specified date at the above location: Fillmore, Jefferson, Johnson, Otoe, Pawnee, Sarpy, Saunders, Seward, and Thayer in the State of Nebraska; Marshall and Washington counties in the State of Kansas; and Fremont and Mills counties in the State of Iowa.

The interest rates are:

| Percent
For Physical Damage:
Homeowners with Credit Available Elsewhere | 5.750
Homeowners Without Credit Available Elsewhere | 2.875
Businesses with Credit Available Elsewhere | 5.500
Businesses and Non-Profit Organizations Without Credit Available Elsewhere | 2.750
Others (Including Non-Profit Organizations) with Credit Available Elsewhere | 4.875
For Economic Injury:
Businesses and Small Agricultural Cooperatives Without Credit Available Elsewhere | 2.750

The number assigned to this disaster for physical damage is 357712. For economic injury the number is 9ZE800 for Nebraska; 9ZE900 for Iowa; and 9ZF100 for Kansas.

(Catalog of Federal Domestic Assistance Program Nos. 59002 and 59008)

Dated: May 25, 2004.
Herbert L. Mitchell,
Associate Administrator for Disaster Assistance.

[FR Doc. 04-12342 Filed 5-28-04; 8:45 am]

BILLING CODE 8025-01-P